DEPARTMENT OF COMMERCE

Patent and Trademark Office

Privacy Act of 1974; System of Records

AGENCY: United States Patent and Trademark Office, Commerce.

ACTION: Notice of proposed new Privacy Act system of records.

SUMMARY: In accordance with the requirements of the Privacy Act of 1974, as amended, the United States Patent and Trademark Office (USPTO) gives notice of a proposed new system of records entitled “COMMERCE/PAT-TM-23 User Access for Web Portals and Information Requests.” We invite the public to comment on the system announced in this publication.

DATES: Written comments must be received no later than April 20, 2009. The proposed system of records will be effective on April 20, 2009, unless the USPTO receives comments that would result in a contrary determination.

ADDRESSES: You may submit written comments by any of the following methods:

• E-mail: Susan.Fawcett@uspto.gov.

• Fax: (571) 273-0112, marked to the attention of Susan Fawcett.

• Mail: Susan K. Fawcett, Records Officer, Office of the Chief Information Officer, Administrative Management Group, United States Patent and Trademark Office, P.O. Box 1450, Alexandria, VA 22313-1450.

• Federal Rulemaking Portal: http://www.regulations.gov.

All comments received will be available for public inspection at the Federal rulemaking portal located at http://www.regulations.gov.

FOR FURTHER INFORMATION CONTACT: Susan K. Fawcett, Records Officer, Office of the Chief Information Officer, Administrative Management Group, United States Patent and Trademark Office, P.O. Box 1450, Alexandria, VA 22313-1450, (571) 272-5429.

SUPPLEMENTARY INFORMATION: The United States Patent and Trademark Office (USPTO) is giving notice of a new system of records that is subject to the Privacy Act of 1974. The information in this system of records is used to disseminate information to customers who have made online information requests, registered for access to information available through web portals provided by the USPTO, subscribed to news updates, or have otherwise provided contact information in order to access or receive information from the USPTO.

The proposed new system of records, “COMMERCE/PAT-TM-23 User Access for Web Portals and Information Requests,” is published in its entirety below.

COMMERCE/PAT-TM-23

SYSTEM NAME:

User Access for Web Portals and Information Requests.

SECURITY CLASSIFICATION:

Unclassified.

SYSTEM LOCATION:

United States Patent and Trademark Office, 600 Dulany Street, Alexandria, VA 22314. Records may be located within several business units, including but not limited to the offices under the Commissioner for Patents, Commissioner for Trademarks, General Counsel, Chief Administrative Officer, Chief Financial Officer, and the Chief Information Officer.

CATEGORIES OF INDIVIDUALS COVERED BY THE SYSTEM:

Individuals who request information from the USPTO, including requests related to access to electronic portals, records, subscription services, and collaborative tools designed to disseminate information to the public.

CATEGORIES OF RECORDS IN THE SYSTEM:

Records compiled to respond to requests for information, including the name of the requester or subscriber, nature of request, deposit account number or other account tracking number, name of organization, physical mailing address, telephone number, and electronic mail address.

AUTHORITY FOR MAINTENANCE OF THE SYSTEM:

5 U.S.C. 301, 5 U.S.C. 552, 35 U.S.C. 2, 35 U.S.C. 41, and 44 U.S.C. 3101.

PURPOSE(S):

The information in this system of records is used to disseminate information to customers who have registered for access to information available through electronic means, such as web portals, subscribed to news updates or other information alerts, or have otherwise provided contact information in order to access or receive information from the USPTO.

Routine uses of records maintained in the system, including categories of users and the purposes of such uses:

See Prefatory Statement of General Routine Uses Nos. 4-5, 9-10, and 13, as found at 46 FR 63501-63502 (December 31, 1981). The USPTO may use the information contained in this system of records to disseminate patent and trademark business information to customers or to provide customers with access to patent and trademark business information at their request.

DISCLOSURE TO CONSUMER REPORTING AGENCIES:

Not applicable.

POLICIES AND PRACTICES FOR STORING, RETRIEVING, ACCESSING, RETAINING, AND DISPOSING OF RECORDS IN THE SYSTEM:

STORAGE:

Electronic records in a computer database stored on magnetic storage media, or paper records.

RETRIEVABILITY:

Records may be retrieved by specific data elements, including the account or tracking number, name of the requester, name of organization, subject or type of request, and address.

SAFEGUARDS:

Databases are password-protected and can only be accessed by authorized personnel. Records are maintained in areas accessible only to authorized personnel in buildings protected by security guards.

RETENTION AND DISPOSAL:

Records retention and disposal is in accordance with the series records schedules.

SYSTEM MANAGER(S) AND ADDRESS:

Each business unit within the USPTO is responsible for the data maintained for their business needs related to communication with individuals. Business units include but are not limited to the offices under the Commissioner for Patents, Commissioner for Trademarks, General Counsel, Chief Administrative Officer, Chief Financial Officer, and the Chief Information Officer. Inquiries may be addressed to: System Manager, (Name of business unit), United States Patent and Trademark Office, P.O. Box 1450, Alexandria, VA 22313-1450.

NOTIFICATION PROCEDURE:

Information about the records contained in this system may be obtained by sending a request in writing, signed, to the appropriate System Manager at the address above. When requesting notification of or access to records covered by this notice, requesters should provide their name and electronic mail address in accordance with the inquiry provisions appearing in 37 CFR part 102 subpart B.

RECORD ACCESS PROCEDURES:

Requests from individuals should be addressed as stated in the notification section above.

CONTESTING RECORD PROCEDURES:

The general provisions for access, contesting contents, and appealing initial determinations by the individual concerned appear in 37 CFR part 102 subpart B. Requests from individuals should be addressed as stated in the notification section above.

RECORD SOURCE CATEGORIES:

Subject individuals and those authorized by the individual to furnish information.

EXEMPTIONS CLAIMED FOR THE SYSTEM:

None.

Susan K. Fawcett,
Records Officer, USPTO, Office of the Chief Information Officer, Administrative Management Group.

[FR Doc. E9-6128 Filed 3-19-09; 8:45 am]

BILLING CODE 3510-16-P